DEPARTMENT OF TRANSPORTATION

Research and Special Programs Administration (RSPA)

[Docket No. RSPA-03-14448; Notice 3]

Pipeline Safety: Qualification of Pipeline Personnel

AGENCY: Office of Pipeline Safety, Research and Special Programs Administration, DOT.

ACTION: Notice of public meeting.

SUMMARY: The Research and Special Programs Administration's (RSPA) Office of Pipeline Safety (OPS) will conduct a public meeting to discuss progress in implementing the operator qualification (OQ) rule for gas and hazardous liquid pipelines. OPS will continue to develop the protocols and guidance materials, and provide an opportunity for public comment. A panel of experts will address technical issues associated with protocols and related materials. A record of the previous public meeting on Qualification of Pipeline Personnel that was held in San Antonio, TX, is available in this docket (RSPA-03-14448).

DATES: The public meeting will be held on March 25, 2003, beginning at 8:30 a.m., ending at 4 p.m.

ADDRESSES: The public meeting will be held at the Sheraton Phoenix East Hotel & Convention Center, 200 N. Centennial Way, Mesa, AZ 85201 (Tel: 800-456-6372 or 480-898-8300); Fax: 480-964-9279; web: http://www.sheratonmesa.com/. The deadline for making a hotel reservation is March 18, 2003 (refer to the U.S. DOT Operator Qualification Group block for government rates). This meeting is free and open to the public. You may register electronically for this meeting at: http://primis.rspa.dot.gov/meetings.

The program will continue to address the 13 issues generated by the first public meeting held in January 2003, and will be open for technical input. This will include presentations on definitions of terms discussed at the last meeting. Persons wishing to make a presentation or statement at the meeting should notify Janice Morgan, (202) 366-2392, no later than March 21, 2003.

Although we encourage persons wishing to comment on operator qualification and inspection protocols to participate in the public meeting, written comments will be accepted. You may submit written comments on operator qualification and inspection issues by mail or delivery to the Dockets Facility, U.S. Department of Transportation, Room PL-401, 400 Seventh Street, SW., Washington, DC 20590-0001. The dockets facility is open from 10 a.m. to 5 p.m., Monday through Friday, except on Federal holidays. You should submit the original and one copy. Anyone who wants confirmation of receipt of their comments must include a stamped, self-addressed postcard. You may also submit comments to the docket electronically. To do so, log on to the Internet Web address http://dms.dot.gov. and click on “Help” for instructions on electronic filing of comments. All written comments should identify the docket number RSPA-03-14448; Notice 2.

Anyone is able to search the electronic form of all comments received into any of our dockets by the name of the individual submitting the comments (or signing the comments, if submitted on behalf of an association, business, labor union, etc.). You may review the U.S. Department of Transportation's complete Privacy Act Statement in the Federal Register published on April 11, 2000 (volume 65, number 70; pages 19477-78) or you may visit http://dms.dot.gov.

FOR FURTHER INFORMATION CONTACT: You may contact Richard Sanders at (405) 954-7214 or (405) 954-7219, regarding the agenda of this public meeting. General information about OPS programs may be obtained by accessing OPS's Internet home page at http://ops.dot.gov.

Information on Services for Individuals with Disabilities:

For information on facilities or services for individuals with disabilities or to request special assistance, contact Janice Morgan, (202) 366-2392.

SUPPLEMENTARY INFORMATION: The operator qualification rules at 49 CFR 192.801 (for gas pipelines) and at 49 CFR 195.501 (for hazardous liquid pipelines) require every pipeline operator to have and follow a written qualification program that includes provisions to identify covered tasks and to ensure that all persons performing these tasks are qualified. By October 28, 2002, all gas and hazardous liquid pipeline operators should have completed the qualification of all individuals performing covered tasks on pipeline facilities.

On March 25, 2003, OPS will conduct a public meeting to continue discussions on the progress in implementing the operator qualification rule for gas and hazardous liquid pipelines. OPS will present a detailed review of the development of the operator qualification inspection protocols. The meeting will focus on areas considered high priority and discussion on compliance issues from Federal and State pipeline safety personnel. These issues, as identified at a previous public meeting on January 22, 2003, in San Antonio, TX, are as follows:

(1) Scope of Operator Qualification

(2) Evaluation of Knowledge, Skills, and Physical Ability

(3) Re-evaluation Intervals

(4) Maintenance versus New Construction

(5) Treatment of Emergency Response

(6) Additional Covered Tasks

(7) Extent of Documentation

(8) Abnormal Operating Conditions

(9) Treatment of Training

(10) Criteria for Small Operators

(11) Direction and Observation of Non-Qualified People

(12) Noteworthy Practices

(13) Persons Contributing to an Incident or Accident

All persons attending the meeting will have an opportunity to comment on operator qualification compliance issues and to question the expert panel on the new operator qualification compliance protocols.

Issued in Washington, DC on March 12, 2003.
James K. O'Steen,
Deputy Associate Administrator for Pipeline Safety.

[FR Doc. 03-6331 Filed 3-14-03; 8:45 am]

BILLING CODE 4910-60-P